DEPARTMENT OF TRANSPORTATION

Federal Aviation Administration

14 CFR Part 39

[Docket No. FAA-2006-26502; Directorate Identifier 2006-NE-37-AD; Amendment 39-14859; AD 2006-26-01]

RIN 2120-AA64

Airworthiness Directives; CFM International, S.A. CFM56 Series Turbofan Engines

AGENCY: Federal Aviation Administration (FAA), Department of Transportation (DOT).

ACTION: Final rule; request for comments.

SUMMARY: The FAA is adopting a new airworthiness directive (AD) for certain CFM International CFM56 Series turbofan engines. This AD requires replacing certain fuel filters manufactured under parts manufacturer approvals (PMA). This AD results from 12 reports of failed fuel filters. We are issuing this AD to prevent the loss of engine thrust that could result in loss of control during takeoff or landing.

DATES: This AD becomes effective January 3, 2007.

We must receive any comments on this AD by February 20, 2007.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Samuel Lee, Aerospace Engineer, Los Angeles Aircraft Certification Office, FAA, Transport Airplane Directorate, 3960 Paramount Blvd., Lakewood, CA 90712-4137; telephone (562) 627-5262; fax (562) 627-5210.

SUPPLEMENTARY INFORMATION: We have received reports of 12 PMA fuel filters, fuel filters part numbers WF337661 and WF337017, manufactured by Western Filter, and part numbers 7595983-101 and 7588133, manufactured by PTI Technologies, that have failed in service on CFM56-7B engines since March 2006. These filters use a deeper pleat and are more susceptible to collapse or deterioration of the filter media than the original equipment manufacturer filters. A collapsed or deteriorated fuel filter can allow unfiltered fuel contamination in fuel components, including fuel nozzles, with no indication of fuel filter bypass to the flight crew. This condition, if not corrected, could result in the loss of engine thrust that could result in loss of control during takeoff or landing.

FAA's Determination and Requirements of This AD

The unsafe condition described previously is likely to exist or develop on other CFM International CFM56 series engines of the same type design. For that reason, we are issuing this AD to prevent the potential loss of thrust that could result in loss of control during takeoff or landing.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2006-26502; Directorate Identifier 2006-NE-37-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-26-01 CFM International, S.A.: Amendment 39-14859. Docket No. FAA-2006-26502; Directorate Identifier 2006-NE-37-AD.

Effective Date

(a) This airworthiness directive (AD) becomes effective January 3, 2007.

Affected ADs

(b) None.

Applicability

(c) This AD applies to CFM International CFM56-2 series, -3 series, -5 series, and -7B series engines with fuel filters, Western Filter part numbers (P/Ns) WF337661 and WF337017 and PTI Technologies P/Ns 7595983-101 and 7588133, installed. These engines are installed on, but not limited to, Airbus A320 and A340 series airplanes, Boeing DC8-71 series, -72 series, and -73 series airplanes, and Boeing 737 series airplanes.

Unsafe Condition

(d) This AD results from 12 reports of failed fuel filters. We are issuing this AD to prevent the loss of engine thrust that could result in loss of control during takeoff or landing.

Compliance

(e) You are responsible for having the actions required by this AD performed within the compliance times specified unless the actions have already been done.

Replacing the Fuel Filters on CFM56-7B Engines

(f) For CFM56-7B engines, within 600 flight hours or 60 days after the effective date of this AD, whichever occurs first, replace fuel filter, Western Filter P/Ns WF337661 or WF337017 and PTI Technologies P/Ns 7595983-101 or 7588133, with a filter that has a P/N not listed in this AD.

Replacing the Fuel Filters on CFM56-2, -3, and -5 Series Engines

(g) For CFM56-2 series, -3 series, and -5 series engines, at the next filter change or 4,000 flight hours, whichever occurs first, after the effective date of this AD, replace fuel filter, Western Filter P/Ns WF337661 or WF337017 and PTI Technologies P/Ns 7595983-101 or 7588133, with a filter that has a P/N not listed in this AD.

Prohibition Against Installing Fuel Filters with Certain P/Ns

(h) After the effective date of this AD, do not install any fuel filter, Western Filter P/Ns WF337661 or WF337017 or PTI Technologies P/Ns 7595983-101 or 7588133.

Alternative Methods of Compliance

(i) The Manager, Engine Certification Office, has the authority to approve alternative methods of compliance for this AD if requested using the procedures found in 14 CFR 39.19.

Related Information

(j) None.

Material Incorporated by Reference

(k) None.

Issued in Burlington, Massachusetts, on December 12, 2006.
Peter A. White,
Acting Manager, Engine and Propeller Directorate, Aircraft Certification Service.

[FR Doc. E6-21485 Filed 12-18-06; 8:45 am]

BILLING CODE 4910-13-P